DEPARTMENT OF JUSTICE

[OMB Number 1105-0071]

Agency Information Collection Activities: Proposed Reinstatement With Change of a Previously Approved Collection; Comments Requested: Extension With Change of a Previously Approved Collection; National Drug Threat Survey

ACTION: 60-Day Notice of information collection under review

The United States Department of Justice (DOJ), National Drug Intelligence Center (NDIC), will be submitting the following information collection request to the Office of Management and Budget (OMB) for review and approval in accordance with the Paperwork Reduction Act of 1995. The proposed information collection is published to obtain comments from the public and affected agencies. Comments are encouraged and will be accepted for “sixty days” until October 28, 2011. This process is conducted in accordance with 5 CFR 1320.10.

If you have comments especially on the estimated public burden or associated response time, suggestions, or need a copy of the proposed information collection instrument with instructions or additional information, please contact Kevin M. Walker, General Counsel, National Drug Intelligence Center, Fifth Floor, 319 Washington Street, Johnstown, PA 15901.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension with Change of a Previously Approved Collection.

(2) Title of the Form/Collection: National Drug Threat Survey.

(3) Agency form number, if any, and the applicable component of the Department of Justice sponsoring the collection: Form Number: NDIC Form # A-34l.

(4) Affected public who will be asked or required to respond, as well as a brief abstract: Primary: Federal, State, Tribal, and Local law enforcement agencies. This survey is a critical component of the National Drug Threat Assessment and other reports and assessments produced by the National Drug Intelligence Center. It provides direct access to detailed drug threat data from state and local law enforcement agencies.

(5) An estimate of the total number of respondents and the amount of time estimated for an average respondent to respond: It is estimated that approximately 3,000 respondents will complete a survey response within approximately 20 minutes.

(6) An estimate of the total public burden (in hours) associated with the collection: There are an estimated 1,000 total annual burden hours associated with this collection.

If additional information is required contact: Jerri Murray, Department Clearance Officer, United States Department of Justice, Justice Management Division, Policy and Planning Staff, Two Constitution Square, 145 N Street, NE., Suite 502, Washington, DC 20530.

Jerri Murray,
Department Clearance Officer, PRA, U.S. Department of Justice.

[FR Doc. 2011-21955 Filed 8-26-11; 8:45 am]

BILLING CODE 4410-DC-P